DEPARTMENT OF JUSTICE

Notice of Lodging Proposed Consent Decree

In accordance with Departmental Policy, 28 CFR 50.7, notice is hereby given that a proposed Consent Decree in United States of America v. Yellowstone Mountain Club, LLC, et al., No. CV 04-58-BU-RWA, (D. Mt.) was lodged with the United States District Court for the District of Montana on August 9, 2004.

This proposed Consent Decree concerns a complaint filed by the United States against Yellowstone Mountain Club, LLC, Yellowstone Development, LLC, Blixseth Group, Inc. and The Ranches of Yellowstone Club, LLC pursuant to section 309(b) and (d) of the Clean Water Act (“CWA”), 33 U.S.C. 1319 (b) and (d), to obtain injunctive relief from and impose civil penalties against the Defendants for violating the Clean Water Act by discharging pollutants without a permit into waters of the United States. The proposed Consent Decree resolves these allegations by requiring the Defendants to restore impacted areas, perform mitigation and to pay a civil penalty.

The Department of Justice will accept written comments relating to this proposed Consent Decree for thirty (30) days from the date of publication of this Notice. Please address comments to Leif Johnson, Assistant United States Attorney, P.O. Box 1478, Billings, Montana 59103 and refer to United States of America v. Yellowstone Mountain Club, LLC, et al. and DJ # 90-5-1-1-16831.

The proposed Consent Decree may be examined at the Clerk's Office, United States District Court for the District of Montana, Butte Division, 303 Federal Building, 400 North Main St., Butte, Montana 59701. In addition, the proposed Consent Decree may be viewed at http://www.usdoj.gov/enrd/open.html.

Scott Schachter,
Assistant Chief, Environmental Defense Section, Environment & Natural Resources Division.

[FR Doc. 04-19485 Filed 8-24-04; 8:45 am]

BILLING CODE 4410-15-M